DEPARTMENT OF TRANSPORTATION

Federal Highway Administration

Environmental Impact Statement: Nevada County, CA

AGENCY: Federal Highway Administration (FHWA), DOT.

ACTION: Notice of intent.

SUMMARY: The FHWA is issuing this notice to advise the public that an environmental impact statement will be prepared for a proposed highway project in Nevada County, California.

FOR FURTHER INFORMATION CONTACT: Maiser Khaled, Chief, District Operations—North, Federal Highway Administration, California Division, 980 North Street, Suite 400, Sacramento, California 95814, Telephone: (916) 498-5020, or Jeffrey M. Loudon, Chief Environmental Management, M-1 Branch, California Department of Transportation, District 3, PO Box 911, Marysville, CA 95901-0911, (530) 741-4598.

SUPPLEMENTARY INFORMATION: The FHWA, in cooperation with the California Department of Transportation (Caltrans), will prepare an Environmental Impact Statement (EIS) for a proposed upgrade of State Route (SR) 49 in Nevada County, California. The proposed project would construct a four-lane conventional highway with a continuous median/left-turn lane, from Wolf/Combie Road (KP 3.5) to the end of the freeway south of McKnight Way near Grass Valley (KP 21.40). It is also proposed to review the continuation of the freeway section south to Crestview Drive (KP 20.8), a distance of approximately 0.6 km, because of the possible future construction of an interchange.

Improvements to the corridor are considered necessary to improve safety, provide for existing and projected traffic demand, and potentially reduce operational problems and accident rates. Alternatives under consideration include (1) taking no action, (2) constructing a four-lane facility that follows the existing alignment utilizing a 4.2 m median, (3) a range of alternatives including bicycle, mass transit, and Transportation Systems Management alternatives (e.g., congestion pricing and demand management).

Letters describing the proposed action and soliciting comments will be sent to appropriate Federal, State and local agencies, and to private organizations and citizens who have previously expressed or are known to have interest in this proposal. In addition, a public workshop will be held, with public notice being given of the time and location. The draft EIS will be available for public and agency review and comment prior to the workshop. No formal scoping meeting is planned at this time.

To ensure that the full range of issues related to this proposed action are addressed and all significant issues are identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: March 4, 2003.
Maiser Khaled,
Chief, District Operations—North Sacramento, California.

[FR Doc. 03-5573 Filed 3-7-03; 8:45 am]

BILLING CODE 4910-22-M